DEPARTMENT OF TRANSPORTATION

Federal Aviation Administration

14 CFR Part 39

[Docket No. FAA-2007-27361; Directorate Identifier 2006-NM-237-AD; Amendment 39-15097; AD 2007-12-19]

RIN 2120-AA64

Airworthiness Directives; Airbus Model A310 Series Airplanes; and Airbus Model A300-600 Series Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. The MCAI describes the unsafe condition as explosion risks. Chafing of the fuel pump cables could result in short circuits leading to fuel pump failure, intermittent operation, arcing, and possible fuel tank explosion. We are issuing this AD to require actions to correct the unsafe condition on these products.

DATES: This AD becomes effective July 19, 2007.

The Director of the Federal Register approved the incorporation by reference of certain publications listed in this AD as of July 19, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Discussion

The FAA is implementing a new process for streamlining the issuance of ADs related to MCAI. This streamlined process will allow us to adopt MCAI safety requirements in a more efficient manner and will reduce safety risks to the public. This process continues to allow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

We issued a notice of proposed rulemaking (NPRM) to amend 14 CFR part 39 to include an AD that would apply to the specified products. That NPRM was published in the Federal Register on March 13, 2007 (72 FR 11302). That NPRM proposed to require modification of the fuel pump wiring against short circuits.

The MCAI states that the FAA has published SFAR 88 (Special Federal Aviation Regulation 88). In their letters referenced 04/00/02/07/01-L296, dated March 4th, 2002, and 04/00/02/07/03-L024, dated February 3, 2003, the JAA (Joint Aviation Authorities) recommended the application of a similar regulation to the National Aviation Authorities (NAA). Under this regulation, all holders of type certificates for passenger transport aircraft with either a passenger capacity of 30 or more, or a payload capacity of 7,500 pounds (3,402 kilograms) or more, which have received their certification since January 1, 1958, are required to conduct a design review against explosion risks.

The MCAI design review found that fuel pump cables can possibly become chafed in their metallic conduits. The chafing of the fuel pump cables can result in short circuits leading to fuel pump failure, intermittent operation, arcing, and possible fuel tank explosion. The MCAI, which requires modification of the fuel pump wiring against short circuits, is a consequence of this design review.

Comments

We gave the public the opportunity to participate in developing this AD. We considered the comment received.

Request To Refer to Latest Service Bulletin

Airbus requests that we refer to the latest revision of Service Bulletin A310-24-2097. Airbus states that Service Bulletin A310-24-2097, Revision 02, dated May 24, 2007, has been released to operators. Airbus notes that the service bulletin does not introduce any additional work.

We have reviewed Airbus Service Bulletin A310-24-2097, Revision 02, dated May 24, 2007 (we referred to Airbus Service Bulletins A310-24-2097, dated February 15, 2006; and Revision 01, dated October 11, 2006; as appropriate sources of service information for accomplishing the actions proposed in the NPRM). Revision 02 of the service bulletin does not add additional work. Revision 02 of the service bulletin updates the effectivity and introduces minor changes. Therefore, we have revised this AD to refer to Revision 02 of the service bulletin as an appropriate source of service information for doing the required actions.

Clarification of Alternative Method of Compliance (AMOC) Paragraph

We have revised this action to clarify the appropriate procedure for notifying the principal inspector before using any approved AMOC on any airplane to which the AMOC applies.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

We estimate that this AD will affect 205 products of U.S. registry. We also estimate that it will take about 72 work-hours per product to comply with this AD. The average labor rate is $80 per work-hour. Required parts will cost about $7,190 per product. Where the service information lists required parts costs that are covered under warranty, we have assumed that there will be no charge for these parts. As we do not control warranty coverage for affected parties, some parties may incur costs higher than estimated here. Based on these figures, we estimate the cost of this AD to the U.S. operators to be $2,654,750, or $12,950 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-12-19 Airbus: Amendment 39-15097. Docket No. FAA-2007-27361; Directorate Identifier 2006-NM-237-AD.

Effective Date

(a) This airworthiness directive (AD) becomes effective July 19, 2007.

Affected ADs

(b) None.

Applicability

(c) This AD applies to Airbus Model A310 series airplanes; and Model A300-600 series airplanes; certificated in any category; all certified models, all serial numbers, except for aircraft which have received in production Airbus modification 13118 or Airbus Service Bulletin (SB) A310-24-2097 or A300-24-6094.

Reason

(d) The mandatory continuing airworthiness information (MCAI) states that the FAA has published SFAR 88 (Special Federal Aviation Regulation 88). In their letters referenced 04/00/02/07/01-L296, dated March 4th, 2002, and 04/00/02/07/03-L024, dated February 3, 2003, the JAA (Joint Aviation Authorities) recommended the application of a similar regulation to the National Aviation Authorities (NAA). Under this regulation, all holders of type certificates for passenger transport aircraft with either a passenger capacity of 30 or more, or a payload capacity of 7,500 pounds (3,402 kilograms) or more, which have received their certification since January 1, 1958, are required to conduct a design review against explosion risks. The MCAI design review found that fuel pump cables can possibly become chafed in their metallic conduits. The chafing of the fuel pump cables can result in short circuits leading to fuel pump failure, intermittent operation, arcing, and possible fuel tank explosion. The MCAI, which requires modification of the fuel pump wiring against short circuits, is a consequence of this design review.

Actions and Compliance

(e) Unless already done, do the following actions.

(1) Within 37 months after the effective date of this AD: Modify the inner and outer fuel pumps, route 1P and 2P harnesses in the LH (left-hand) wing and in the RH (right-hand) wing in accordance with the instructions of Airbus Service Bulletins A300-24-6094, dated February 15, 2006; A300-24-6094, Revision 01, dated July 18, 2006; A310-24-2097, dated February 15, 2006; A310-24-2097, Revision 01, dated October 11, 2006; or A310-24-2097, Revision 02, dated May 24, 2007; as applicable.

FAA AD Differences

Note: This AD differs from the MCAI and/or service information as follows: No differences.

Other FAA AD Provisions

(f) The following provisions also apply to this AD:

(1) Alternative Methods of Compliance (AMOCs): The Manager, International Branch, ANM-116, Transport Airplane Directorate, FAA, has the authority to approve AMOCs for this AD, if requested using the procedures found in 14 CFR 39.19. Send information to Attn: Tom Stafford, Aerospace Engineer, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(g) Refer to MCAI European Aviation Safety Agency Airworthiness Directive 2006-0284 R1, dated February 13, 2007; and Airbus Service Bulletins A300-24-6094, dated February 15, 2006; A300-24-6094, Revision 01, dated July 18, 2006; A310-24-2097, dated February 15, 2006; A310-24-2097, Revision 01, dated October 11, 2006; and A310-24-2097, Revision 02, dated May 24, 2007; for related information.

Material Incorporated by Reference

(h) You must use the applicable service information specified in Table 1 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Table 1.—Material Incorporated by Reference
Airbus service bulletin | Revision | Date
A300-24-6094 | Original | February 15, 2006.
A300-24-6094 | 01 | July 18, 2006.
A310-24-2097 | Original | February 15, 2006.
A310-24-2097 | 01 | October 11, 2006.
A310-24-2097 | 02 | May 24, 2007.

Issued in Renton, Washington, on June 1, 2007.
Ali Bahrami,
Manager, Transport Airplane Directorate, Aircraft Certification Service.

[FR Doc. E7-11200 Filed 6-13-07; 8:45 am]

BILLING CODE 4910-13-P